DEPARTMENT OF STATE

[Public Notice 8359]

Culturally Significant Objects Imported for Exhibition; Determinations: “Of Heaven and Earth: 500 Years of Italian Painting From Glasgow Museums”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the objects to be included in the exhibition “Of Heaven and Earth: 500 Years of Italian Painting from Glasgow Museums,” imported from abroad for temporary exhibition within the United States, are of cultural significance. The objects are imported pursuant to a loan agreement with the foreign owner or custodian. I also determine that the exhibition or display of the exhibit objects at the Oklahoma City Museum of Art, Oklahoma City, Oklahoma, from on or about August 22, 2013, until on or about November 17, 2013, the Everson Museum of Art, Syracuse, New York, from on or about April 17, 2014, until on or about July 13, 2014, the Milwaukee Art Museum, Milwaukee, Wisconsin, from on or about October 3, 2014, until on or about January 4, 2015, the Santa Barbara Museum of Art, Santa Barbara, California, from on or about February 6, 2015, until on or about May 3, 2015 (under the title “Botticelli, Titian and Beyond: Italian Masterpieces from Glasgow Museums”), and at possible additional exhibitions or venues yet to be determined, is in the national interest. I have ordered that Public Notice of these Determinations be published in the Federal Register.

FOR FURTHER INFORMATION CONTACT: For further information, including a list of the exhibit objects, contact Paul W. Manning, Attorney-Adviser, Office of the Legal Adviser, U.S. Department of State (telephone: 202-632-6469). The mailing address is U.S. Department of State, SA-5, L/PD, Fifth Floor (Suite 5H03), Washington, DC 20522-0505.

Dated: June 18, 2013.
J. Adam Ereli,
Principal Deputy Assistant Secretary, Bureau of Educational and Cultural Affairs, Department of State.

[FR Doc. 2013-15302 Filed 6-25-13; 8:45 am]

BILLING CODE 4710-05-P